NUCLEAR REGULATORY COMMISSION

[Docket Nos. 50-361 and 50-362; NRC-2011-0029]

Southern California Edison Company; Notice of Withdrawal of Application for Amendments to Facility Operating Licenses

The U.S. Nuclear Regulatory Commission (the Commission or NRC) has granted the request of Southern California Edison (SCE, the licensee) to withdraw its January 14, 2010, application for proposed amendments to Facility Operating License Nos. NPF-10 and NPF-15 for the San Onofre Nuclear Generating Station (SONGS), Units 2 and 3, respectively, located in San Diego County, California.

The proposed amendments would have revised a number of Technical Specification (TS) requirements, to impose similar restrictions on the movement of non-irradiated fuel assemblies to those currently in place for movement of irradiated fuel assemblies. The additional restrictions would limit the movement of all fuel assemblies over irradiated fuel assemblies in containment or in the fuel storage pool.

The Commission had previously issued a Notice of Consideration of Issuance of Amendment published in the Federal Register on May 18, 2010 (75 FR 27832). However, by letter dated January 27, 2011, the licensee withdrew the proposed changes.

For further details with respect to this action, see the application for amendment dated January 14, 2010, and the licensee's letter dated January 27, 2011, which withdrew the application for license amendment. Documents may be examined, and/or copied for a fee, at the NRC's Public Document Room (PDR), located at One White Flint North, Room O1-F21, 11555 Rockville Pike (first floor), Rockville, Maryland 20852-2738. Publicly available records will be accessible electronically from the Agencywide Documents Access and Management System (ADAMS) Public Electronic Reading Room on the internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland, this 31st day of January 2011.
For the Nuclear Regulatory Commission.
James R. Hall,
Senior Project Manager, Plant Licensing Branch IV, Division of Operating Reactor Licensing, Office of Nuclear Reactor Regulation.

[FR Doc. 2011-2739 Filed 2-7-11; 8:45 am]

BILLING CODE 7590-01-P